NATIONAL SCIENCE FOUNDATION

Notice of Permit Applications Received Under the Antarctic Conservation Act of 1978 (Pubic Law 95-541)

AGENCY: National Science Foundation.

ACTION: Notice of permit applications received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by December 1, 2006. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: Samuel D. Feola (Permit Application No. 2007-018), Raytheon Technical Services Company, LLC, Polar Services, 7400 S. Tucson Way, Centennial, CO 80112-3938.

Activity for Which Permit is Requested: Enter an Antarctic Specially Protected Area. The applicant proposes to enter the Avian Island Antarctic Specially Protected Area (ASPA #117) to gain access to a U.S. Antarctic Program (USAP) field research camp. Access to the camp is for: (a) Movement of personnel and supplies from ship to shore via Zodiac or other small boat; (b) opening and closing tasks for the research facilities on shore; and, (c) maintenance and servicing of on-shore facilities and equipment.

Location: Avian Island (ASPA #117).

Dates: October 23, 2006 to August 31, 2010.

2. Applicant: Samuel D. Feola (Permit Application No. 2007-019), Raytheon Technical Services Company, LLC, Polar Services, 7400 S. Tucson Way, Centennial, CO 80112-3938.

Activity for Which Permit is Requested: Enter an Antarctic Specially Protected Area. The applicant proposes to enter the Cape Shirreff Antarctic Specially Protected Area (ASPA #149) to gain access to a U.S. Antarctic Program (USAP) field research camp. Access to the camp is for: (a) Movement of personnel and supplies from ship to shore via Zodiac or other small boat; (b) opening and closing tasks for the research facilities on shore; and, (c) maintenance and servicing of on-shore facilities and equipment.

Location: Avian Island (ASPA #149).

Dates: October 23, 2006 to August 31, 2010.

3. Applicant: Anne Aghion (Permit Application No. 2007-020), P.O. Box 1528, New York, NY 10276.

Activity for Which Permit is Requested: Enter Antarctic Specially Protected Areas. The applicant plans to enter the historic huts at Cape Evans (ASPA #155), Cape Royds (ASPA #157), and Hut Point (ASPA #158) for the purpose of filming a documentary. This documentary is about the human experience of working and living in Antarctica. Access to the historic huts is to document the emotions displayed by visitors when experiencing the huts, the historical connection and to the original Antarctic explorers.

Location: Cape Evans (ASPA #155), Cape Royds (ASPA #157) and Hut Point (ASPA #158).

Dates: November 01, 2006 to December 31, 2006.

4. Applicant: Werner Herzog (Permit Application No. 2007-021), 8865 Wonderland Avenue, Los Angeles, CA 90046-1851.

Activity for Which Permit is Requested: Enter an Antarctic Specially Protected Area. The applicant plans to enter the historic hut at Cape Royds (ASPA #157) for the purpose of filming a documentary. This documentary is being filmed for the U.S. Discovery Channel.

Location: Cape Royds (ASPA #157).

Dates: November 14, 2006 to December 18, 2006.

Nadene G. Kennedy,
Permit Officer, Office of Polar Programs.

[FR Doc. E6-18387 Filed 10-31-06; 8:45 am]

BILLING CODE 7555-01-P